DEPARTMENT OF THE INTERIOR

National Park Service

[NPS-WASO-NAGPRA-22599; PPWOCRADN0-PCU00RP14.R50000]

Notice of Inventory Completion: Robert S. Peabody Museum of Archaeology, Andover, MA

AGENCY: National Park Service, Interior.

ACTION: Notice.

SUMMARY: The Robert S. Peabody Museum of Archaeology has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Robert S. Peabody Museum of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Robert S. Peabody Museum of Archaeology at the address in this notice by March 27, 2017.

ADDRESSES: Ryan Wheeler, Robert S. Peabody Museum of Archaeology, Phillips Academy, 180 Main Street, Andover, MA 01810, (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Museum of Archaeology, Phillips Academy. The human remains and associated funerary objects were removed from Pecos Pueblo, San Miguel County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robert S. Peabody Museum of Archaeology professional staff in consultation with representatives of the Pueblo of Jemez, New Mexico.

History and Description of the Remains

In 1915, human remains representing, at minimum, one individual were removed from a burial at Pecos Pueblo in San Miguel County, NM during excavations conducted by Alfred Vincent Kidder under the auspices of the Phillips Academy Department of Archaeology (now the Robert S. Peabody Museum of Archaeology). The individual is a fetus or infant wrapped in cloth. No known individuals were identified. The two associated funerary objects are the cotton textile wrapping and knit cordage with tassels, including three copper sequins and other small metal wires on one tassel. A conservation report on file indicates that the cloth is a commercial cotton textile that looks like crepe. The accession and catalog number for this group is 100633/69667; alternate numbers 16512 (the burial) and 3641 (associated knit cordage with tassels, including copper sequins) are associated with this individual as well.

Additional information on file indicates that this burial was situated within the ruins of the Spanish church at the Pecos Pueblo site. Archeologist Jesse L. Nusbaum conducted repairs and stabilization of the mission church ruins at Pecos in 1915. It is possible that this burial was recovered during that time. Kidder (see Pecos, New Mexico: Archaeological Notes 1958:282, 304-305) reports that a great many burials were present under the nave of the church, but that local feelings prevented extensive excavations until 1925, when 56 individuals were removed. The fourth church constructed at Pecos Pueblo was in use throughout the eighteenth century and until 1829, when Catholic worship moved to the nearby village of San Miguel del Vado. The burial likely dates to this time period.

In 1916, human remains representing, at minimum, one individual were removed from a burial at Pecos Pueblo in San Miguel County, NM, during excavations conducted by Alfred Vincent Kidder under the auspices of the Phillips Academy Department of Archaeology (now the Robert S. Peabody Museum of Archaeology). The human remains are represented by hair. No known individuals were identified. The one associated funerary object is leather wrapping, though general deterioration makes it impossible to distinguish between the hair and any leather wrapping that is still present. The accession ledgers indicate that the hair and wrapping were associated with Skeleton 471. The accession and catalog number for this group is 100633/67654; alternate catalog number 12378 is associated with this individual as well.

Copies of burial cards from the excavation describe the mode of burial as flexed, with the individual on his left side and his head to the north. A bone awl and two bone beads (not addressed in this Notice) were included with the burial, and fragments of at least two decayed corn cobs were noted in the grave. Michèle Morgan's 2010 edited volume Pecos Pueblo Revisited: The Biological and Social Context describes this individual as an adult male, 15 to 17 years old at age of death (page 180). The catalog number associated with the human remains is 59873. The skeletal remains and associated funerary objects (awl and bone beads) were addressed in the notices previously published by the Robert S. Peabody Museum of Archaeology and the Peabody Museum of Archaeology and Ethnology, Harvard University, and were repatriated to the Pueblo of Jemez in May 1999. Provenience information is given as 1000-E-150, depth from surface 48 inches, 14 inches above red clay. Catalog data indicates that this individual is associated with Kidder's Glaze 5 pottery, circa AD 1515 to 1700.

The majority of human remains, associated funerary objects, and unassociated funerary objects excavated by Alfred V. Kidder from Pecos Pueblo and allied sites between 1915 and 1929 were addressed in Notices of Inventory Completion, Corrections, and Notices of Intent to Repatriate Cultural Items published in the Federal Register (63 FR 54729-54730, October 13, 1998; 64 FR 18447, April 14, 1999; and 67 FR 36646, May 24, 2002) by the Robert S. Peabody Museum of Archaeology and the Peabody Museum of Archaeology and Ethnology, Harvard University (a separate institution with no formal connection to the Robert S. Peabody Museum of Archaeology). The fetus or infant burial (assigned accession and catalog number 100633/69667) was not addressed in earlier notices and was not repatriated. Associated shell and lignite pendants associated with the fetus or infant burial, however, were addressed in earlier notices and repatriated to the Pueblo of Jemez in May 1999. The excavators seem to have handled the hair and wrapping (assigned accession and catalog number 100633/67654) separately from the associated skeletal remains; the skeletal remains and associated funerary objects (awl and bone beads) were addressed in earlier notices and repatriated to the Pueblo of Jemez. The fetus or infant and the hair and wrappings have remained on loan to the Pecos National Historical Park in New Mexico along with other Pecos Pueblo collections held by the Robert S. Peabody Museum of Archaeology.

The chronology developed for Pecos Pueblo, based on ceramic types, indicates the site was occupied from ca. A.D. 1300 to 1700. Historic records document occupation at the site until 1838, when the last inhabitants left the Pueblo and went to the Pueblo of Jemez. In 1936, an Act of Congress recognized the Pueblo of Jemez as a “consolidation” and “merger” of the Pueblo of Pecos and the Pueblo of Jemez; this Act further recognized that all property, rights, titles, interests, and claims of both pueblos were consolidated under the Pueblo of Jemez, New Mexico.

Further evidence supporting a shared group identity between the Pecos and Jemez pueblos emerges in numerous aspects of present-day Jemez life. The 1992-1993 Pecos Ethnographic Project (unrelated to NAGPRA) states: “[T]he cultural evidence of Pecos living traditions are (1) the official tribal government position of a Second Lieutenant/Pecos Governor; (2) the possession of the Pecos Pueblo cane of office; (3) the statue and annual feast day of Porcingula (Nuestra Senora de los Angeles) on August 2; (4) the Eagle Watchers' Society; (5) the migration of Pecos people in the early nineteenth century; (6) the knowledge of the Pecos language by a few select elders” (see “An Ethnographic Overview of Pecos National Historical Park” by Frances Levine, Marilyn Norcini, and Morris Foster 1994:2-3).

Determinations Made by the Robert S. Peabody Museum of Archaeology

Officials of the Robert S. Peabody Museum of Archaeology have determined that:

• Pursuant to 25 U.S.C. 3001(9), the human remains described in this notice represent the physical remains of two individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Pueblo of Jemez, New Mexico.

Additional Requestors and Disposition

Lineal descendants or representatives of any Indian tribe or Native Hawaiian organization not identified in this notice that wish to request transfer of control of these human remains and associated funerary objects should submit a written request with information in support of the request to Ryan Wheeler, Robert S. Peabody Museum of Archaeology, Phillips Academy, 180 Main Street, Andover, MA 01810, (978) 749-4490, email rwheeler@andover.edu by March 27, 2017. After that date, if no additional requestors have come forward, transfer of control of the human remains and associated funerary objects to the Pueblo of Jemez may proceed.

The Robert S. Peabody Museum of Archaeology is responsible for notifying the Pueblo of Jemez, New Mexico that this notice has been published.

Dated: December 19, 2016.
Melanie O'Brien,
Manager, National NAGPRA Program.

[FR Doc. 2017-03622 Filed 2-23-17; 8:45 am]

BILLING CODE 4312-52-P